ENVIRONMENTAL PROTECTION AGENCY

[FRL-6847-7]

Proposed Settlement Under Section 122(h)(1) of the Comprehensive Environmental Response, Compensation and Liability Act; In the Matter of Old World Trade Center Superfund Site

AGENCY: Environmental Protection Agency.

ACTION: Request for public comment.

SUMMARY: Notice of Settlement: in accordance with Section 122(h)(1) of the Comprehensive Environmental Response, Compensation and Liability Act of 1980, as amended (“CERCLA”), notice is hereby given of a settlement concerning past response costs at the Old World Trade Center Superfund Site in Detroit, Michigan. This proposed agreement has been approved by the Attorney General, as required by Section 122(h)(1) of CERCLA.

DATES: Comments must be provided on or before September 7, 2000.

ADDRESSES: Comments should be addressed to Karen L. Peaceman, Assistant Regional Counsel, Mail Code C-14J, U.S. Environmental Protection Agency, 77 West Jackson Boulevard, Chicago, Illinois, 60604, and should refer to: In the Matter of Old World Trade Center Superfund Site.

FOR FURTHER INFORMATION CONTACT: Karen L. Peaceman, Mail Code C-14J, U.S. Environmental Protection Agency, 77 West Jackson Boulevard, Chicago, Illinois 60604, (312) 353-5751.

SUPPLEMENTARY INFORMATION: The following parties executed binding certification of their consent to participate in the settlement: 5900 Associates, L.L.C. and Peter Adamo.

The settling parties will pay $100,000 for response costs related to the Old World Trade Center Superfund Site, if the United States Environmental Protection Agency determines that it will not withdraw or withhold its consent to the proposed settlement after consideration of comments submitted pursuant to this notice.

U.S. EPA may enter into this settlement under the authority of Section 122(h)of CERCLA. Section 122(h)(1) authorizes EPA to settle any claims under Section 107 of CERCLA where such claim has not been referred to the Department of Justice. Pursuant to this authority, the agreement proposes to settle with parties who are potentially responsible for costs incurred by EPA at the Old World Trade Center Superfund Site.

A copy of the proposed administrative order on consent and additional background information relating to the settlement are available for review and may be obtained in person or by mail from Karen L. Peaceman, Mail Code C-14J, U.S. Environmental Protection Agency, 77 West Jackson Boulevard, Chicago, Illinois 60604.

The U.S. Environmental Protection Agency will receive written comments relating to this settlement for thirty days from the date of publication of this notice.

Authority: The Comprehensive Environmental Response, Compensation, and Liability Act of 1980, as amended, 42 U.S.C. 9601 et seq.

William E. Muno,
Director, Superfund Division.

[FR Doc. 00-20024 Filed 8-7-00; 8:45 am]

BILLING CODE 6560-50-P